DEPARTMENT OF TRANSPORTATION

Pipeline and Hazardous Materials Safety Administration

[Docket No. PHMSA-2014-0092]

Pipeline Safety: Request for Revision of a Previously Approved Information Collection—National Pipeline Mapping System Program (OMB Control No. 2137-0596).

AGENCY: Pipeline and Hazardous Materials Safety Administration (PHMSA), DOT.

ACTION: Notice and request for comments.

SUMMARY: In accordance with the Paperwork Reduction Act of 1995, PHMSA invites public comments on our intent to request the Office of Management and Budget's approval to revise and renew an information collection currently under OMB Control Number 2137-0596 titled: “National Pipeline Mapping System Program.” The collection currently requires operators to submit geospatial data, attributes, metadata, public contact information and a transmittal letter to the National Pipeline Mapping System (NPMS) program. The proposed revisions will require operators to submit additional information to the NPMS.

DATES: Interested persons are invited to submit written comments on or before September 29, 2014.

ADDRESSES: You may submit comments identified by Docket No. PHMSA-2014-0092 through one of the following methods:

• Federal eRulemaking Portal: http://www.regulations.gov. Follow the online instructions for submitting comments.

• Fax: 202-493-2251.

• Mail or Hand Delivery: Docket Management Facility, U.S. Department of Transportation, 1200 New Jersey Avenue SE., West Building, Room W12-140, Washington, DC 20590, between 9:00 a.m. and 5:00 p.m., Monday through Friday, except on Federal holidays.

• Instructions: Identify the docket number, PHMSA-2014-0092, at the beginning of your comments. Note that all comments received will be posted without change to http://www.regulations.gov, including any personal information provided. You should know that anyone is able to search the electronic form of all comments received in any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

• Docket: For access to the docket or to read background documents or comments, go to http://www.regulations.gov at any time or to Room W12-140 on the ground level of DOT's West Building, 1200 New Jersey Avenue SE., Washington, DC, between 9:00 a.m. and 5:00 p.m., Monday through Friday, except Federal holidays. If you wish to receive confirmation of receipt of your written comments, please include a self-addressed, stamped postcard with the following statement: “Comments on: PHMSA-2014-0092.” The Docket Clerk will date stamp the postcard prior to returning it to you via the U.S. mail. Please note that due to delays in the delivery of U.S. mail to Federal offices in Washington, DC, we recommend that persons consider an alternative method (Internet, fax, or professional delivery service) of submitting comments to the docket and ensuring their timely receipt at the DOT.

FOR FURTHER INFORMATION CONTACT: Amy Nelson, Geospatial Information Systems Manager, Program Development Division, U.S. Department of Transportation, 1200 New Jersey Avenue SE., Washington, DC 20590, by phone at 202-493-0591 or email at amy.nelson@dot.gov.

SUPPLEMENTARY INFORMATION:

A. Background

The NPMS is a geospatial dataset that contains information about PHMSA-regulated gas transmission pipelines, hazardous liquid pipelines, and hazardous liquid low-stress gathering lines. The NPMS also contains data layers for all liquefied natural gas plants and a partial dataset of PHMSA-regulated breakout tanks.

The original standards for the NPMS data collection were drafted in 1998 by a joint government/industry committee comprised of members from PHMSA's predecessor agency the Research and Special Programs Administration, the American Petroleum Institute, the American Gas Association and the Interstate Natural Gas Association of America. With the passage of the Pipeline Safety Improvement Act of 2002 (codified at 49 U.S.C. 60132), gas transmission and hazardous liquid pipeline operators are required to submit their geospatial data, attributes, metadata, public contact information, and a transmittal letter to the NPMS program. While the standards reflected the state of geospatial data and positional accuracy at that time, they do not reflect the current state of geospatial data and positional accuracy. PHMSA requires more accurate and complete information about each pipeline, liquefied natural gas plant or breakout tank than the minimal set of attributes it receives with NPMS submissions. Collecting enhanced data will strengthen PHMSA's ability to fulfill its strategic goals to improve public safety, protect the environment and ensure infrastructure is well-maintained. More accurate and complete NPMS data will also help emergency responders and government officials create better, more appropriate emergency response plans.

Specifically, the new data will:

• Aid the industry and all levels of government, from Federal to municipal, in promoting public awareness of hazardous liquid and gas pipelines and in improving emergency responder outreach. Currently, 787 Federal officials, 1,208 state officials and 4,791 county officials have access to the online mapping application. Providing these officials with an improved NPMS containing system-specific information about local pipeline facilities can help ensure emergency response agencies and communities are better prepared and can better execute response operations during incidents.

• Permit more powerful and accurate tabular and geospatial analysis, which will strengthen PHMSA's ability to evaluate existing and proposed regulations as well as operator programs and/or procedures.

• Strengthen the effectiveness of PHMSA's risk rankings and evaluations, which are used as a factor in determining pipeline inspection priority and frequency.

• Allow for more effective assistance to emergency responders by providing them with a more reliable, complete dataset of pipelines and facilities.

• Provide better support to PHMSA's inspectors by providing more accurate pipeline locations and additional pipeline-related geospatial data that can be linked to tabular data in PHMSA's inspection database.

PHMSA discussed its NPMS information needs at the joint meeting of the Gas Pipeline Advisory Committee, also known as the Technical Pipeline Safety Standards Committee, and the Liquid Pipeline Advisory Committee, also known as the Technical Hazardous Liquid Pipeline Safety Standards Committee, on August 9, 2013, in Arlington, Virginia. Having discussed with the joint committee some of the challenges involved with gathering positional accuracy data for certain lines, PHMSA devised a proposal that will allow us to gather crucial NPMS data for lines that are in areas of the greatest consequence.

The proposed changes to the NPMS Operator Standards Manual detailed below can be found at: www.npms.phmsa.dot.gov/Documents/Draft_Operator_Standards.pdf. The proposed changes to the attributes will be part of an operator's annual NPMS submission. Unless otherwise marked, all attributes will be linked to the geospatial pipeline file as attributes at the pipe segment level.

PHMSA understands that operators, through their annual report submissions, are currently collecting and have the following information and attributes that PHMSA specifically proposes to collect as additional parts of the NPMS submission. Collecting this geospatial information could lead to eliminating duplicate data requests from the annual reports. PHMSA invites comment on how this expanded collection of information could affect the annual report:

• Positional Accuracy: PHMSA proposes that for pipeline segments located within Class 3, Class 4, High Consequence Areas (HCA), or “could-affect” HCAs, operators submit data to the NPMS with a positional accuracy of five feet. The degree of positional accuracy needed is more stringent and important in these areas because of the potential for greater consequence in the event of a pipeline incident. PHMSA further proposes that for all pipeline segments located within Class 1 or Class 2 locations, operators submit data to the NPMS with a positional accuracy of 50 feet. PHMSA believes that a large number of operators already have access to data with this degree of accuracy within their GIS systems. The current accuracy requirement of 500 feet does not allow PHMSA to effectively locate a pipeline to the degree needed to respond to environmental and integrity threats. It also hinders PHMSA in identifying special features on the pipeline that may be relevant for emergency response considerations. The new degree of accuracy will help emergency responders more effectively locate a pipeline to the degree needed to respond to environmental and integrity threats and help in emergency planning.

• Pipe Diameter: PHMSA proposes to require operators to submit data on the nominal diameter of a pipe segment. Knowing the diameter of a pipeline can help emergency responders determine the impact area of a pipeline. This attribute also gives PHMSA the opportunity to gain a broader understanding of the diameters of pipe being operated in any given geographical region and to further assess potential impacts to public safety and the environment.

• Maximum Allowable Operating Pressure (MAOP), Maximum Operating Pressure (MOP): PHMSA proposes operators submit the maximum MAOP or MOP for a pipeline segment in pounds per square inch gauge. This information is critical because it affects important risk-ranking algorithms and the potential impact radius of a pipeline, which can influence emergency response planning.

• Pipe Grade: PHMSA proposes operators submit information on the predominant pipe grade of a pipeline segment. This information is essential in issues regarding pipe integrity and is a necessary component in determining the allowable operating pressure of a pipeline.

• Percent Specified Minimum Yield Strength (SMYS): PHMSA proposes operators submit information pertaining to the percent at which the pipeline is operating to SMYS. Specifically, operators would submit hoop stress caused by the highest operating pressure during the year as a percentage of SMYS. PHMSA uses the percentage of operating SMYS to determine low- and high-stress pipelines, class locations, test requirements, inspection intervals, and other requirements in the pipeline safety regulations.

• Leak Detection: PHMSA proposes operators submit information on the type of leak detection system used. The type of leak detection used can drastically alter effective response times for operators and emergency responders. Knowing the type of leak detection system used during an incident will help emergency responders respond appropriately in the event of a release.

• Pipe Coating/Type of Coating: PHMSA proposes operators indicate the level of and types of coating on a pipeline segment. The type of coating relates to the level of protection from external corrosion a pipe has while in the ground. Understanding the level of coating helps PHMSA assess pipe integrity and perform better risk assessments.

• Pipe Material: PHMSA proposes operators submit data on the type of pipe material. Knowing the pipe material helps PHMSA determine the level of potential risk from excavation damage and external environmental loads. These can also be factors in emergency response planning.

• Pipe Join Method: PHMSA proposes operators submit data on the pipe joining method. PHMSA uses this information to identify high-risk joining methods and will be used in PHMSA's risk rankings and evaluations, which are used as a factor in determining pipeline inspection priority and frequency.

• Year of Construction/Installation: PHMSA proposes operators submit data on the predominant year of original construction (or installation). The year of construction determines which regulations apply to a pipeline for enforcement purposes. The data requested pertains to the year of construction and not the year the pipe was manufactured. On the annual report, operators have the option of selecting categories of years to report the year of installation. As a result of this revised collection, operators will be able to submit data on the specific year of construction or installation. Although this information is currently collected in the annual report, collecting this information geospatially rather than tabularly allows PHMSA to run better risk-ranking algorithms through pattern analysis and relating pipe attributes to surrounding geographical areas.

• Class Location: PHMSA proposes operators of gas transmission pipeline segments submit information on class location at the segment level. Class location is based upon number of dwellings within 220 yards on either side of the pipeline in a one-mile segment level. This data will help PHMSA determine whether operator IM plans are adequate and complete.

• High Consequence “Could Affect” Areas: PHMSA proposes hazardous liquid and gas transmission operators identify pipe segments which could affect HCAs as defined by 49 CFR 192.903 and 195.450. Pipe segments can be classified as affecting a populated area, an ecologically sensitive area, or a sole-source drinking water area. This information will increase the awareness emergency responders have of potential areas of significant impact.

• Onshore/Offshore: PHMSA proposes operators designate whether a pipe segment is onshore or offshore. As there is no universally accepted onshore/offshore boundary, comparisons between the NPMS (PHMSA-generated) offshore mileage statistics and operator-generated annual report offshore mileage statistics do not match. This collection will allow PHMSA to standardize and compare the statistics for regulatory purposes.

• Inline Inspection: PHMSA proposes operators indicate whether their system is capable of accommodating an inline inspection (ILI) tool. PHMSA considers inline inspections of pipelines to be better, safer, and more cost-effective than other inspection methods. Knowing this information will help PHMSA determine the percentage of the pipeline industry already employing this practice and could help PHMSA address concerns related to NTSB recommendation P-11-17.

• Year of Last Inline Inspection and Year of Last Direct Assessment: PHMSA proposes operators submit data detailing the year of a pipeline's last corrosion, dent, crack or “other” ILI inspection. PHMSA also proposes to collect the year of the last direct assessment. This information is used to verify integrity of the pipeline and is a key metric in PHMSA's pipeline risk calculations, which are used to determine the priority and frequency of inspections.

• Year and Pressure of Original and Last Hydrostatic Test: PHMSA proposes to collect data on a pipeline's original and most recent hydrostatic test years and pressures. This information is used to verify a pipeline's integrity and is a key metric in pipeline risk calculations.

• Commodity Detail: PHMSA proposes operators submit commodity details for pipelines if that commodity is crude oil, product or natural gas. The choices for crude oil will be “sweet crude” or “sour crude.” The choices for product will be refined non-ethanol blended gasoline, refined fuel oil or diesel, refined kerosene or jet fuel, other refined and/or non HVL petroleum products, ethanol blended gasoline, biodiesel blend and other biofuels. The choices for natural gas will be pipeline-quality or tariff-quality natural gas, wet but non-sour natural gas, sour but non-wet natural gas, and wet, sour natural gas. Other choices may be added as the need arises. This level of detail is required because of potential differences in leak characteristics, rupture-impacted hazardous areas and a pipeline's internal integrity. Emergency responders would also be able to better respond to and be better prepared for pipeline incidents if they knew what commodities were being transported in which locations.

• Special Permit: PHMSA proposes operators denote whether a pipe segment is part of a PHMSA Special Permit and thus would have a different maximum operating pressure than would otherwise be allowed. The Special Permit number is also needed. This information allows PHMSA to more easily locate these pipe segments and could help emergency responders respond adequately in the event of an emergency.

• Wall Thickness: PHMSA proposes to collect data on the nominal wall thickness of a pipe. This is a fundamental piece of information about a pipe that is used for risk calculations.

• Seam Type: PHMSA proposes operators submit data on the seam type of each pipe segment. This is a fundamental piece of information about a pipe that is used for risk rankings and evaluations, which are used as a factor in determining pipeline inspection priority and frequency.

PHMSA understands that operators may or may not have the following attributes in their GIS systems and therefore, operators may need to do additional research to compile this information:

• Abandoned Pipelines: PHMSA proposes that all gas transmission and hazardous liquid pipelines abandoned after the effective date of this information collection be mandatory submissions to the NPMS. Abandoned lines are not currently required to be submitted to the NPMS. Based on a recent incident in Wilmington, CA, where confusion as to whether a pipeline was abandoned or not was a factor, abandoned pipelines need to be identified to help ensure that they are maintained in the proper manner in accordance with pipeline safety regulations. Abandoned lines are at higher risk for excavation damage and are a critical integrity management issue. Operators only need to submit this data in the calendar year after the abandonment occurs.

• Offshore Gas Gathering Lines: PHMSA proposes operators of offshore gas gathering pipelines make NPMS data submissions. This information is not currently collected, but due to a rising rate of incidents involving offshore gas gathering lines, PHMSA believes this information is necessary to develop risk calculations and accurate response measures for incidents involving such pipelines.

• Installation Method if Pipe Crosses Body of Water Greater Than 100 Feet in Width: Due to recent incidents involving washed-out pipelines, including the incident that occurred near Laurel, MT, PHMSA proposes operators submit data on the installation methods of pipe segments that cross bodies of water greater than 100 feet in width. This information will give pipeline inspectors the ability to verify the depth of cover of pipeline segments under water. PHMSA will also use this information in risk-ranking algorithms. Operators will be able to select from options such as open cut, trenchless technologies, pipe spans, etc.

• Facility Response Plan: PHMSA proposes operators submit the Facility Response Plan control number and sequence number for applicable liquid pipeline segments. This information will be used by PHMSA inspectors to verify compliance with PHMSA requirements and to aid in emergency response efforts.

• Throughput: Throughput is used to denote a pipeline's capacity by stating the pipelines ability to flow a measured amount of product per unit of time. PHMSA proposes operators submit average daily throughput so States can better identify shortages and implement contingency plans for potential widespread pipeline service outages to maintain an uninterrupted flow of energy supplies.

• Mainline Block Valve Locations: PHMSA proposes operators submit a geospatial point file containing the locations of mainline block valves, the type of valves and the type of valve operators. This information is essential for first responders, as the extent and severity of property damage and life-threatening risks during high-consequence incidents can be reduced if the appropriate valves on affected segments are located and used more quickly. This information will also assist PHMSA in accurate risk assessment.

• Storage Field Locations and Type of Storage: PHMSA proposes operators submit a geospatial polygon file containing the locations of storage fields and the field type. The footprint of the storage field helps determine the impact to the surrounding area and helps PHMSA provide accurate information to first responders.

• Refinery Locations/Gas Process/Treatment Plant Locations: PHMSA proposes operators submit a geospatial point file containing the locations of refineries (for liquid operators) and gas process/treatment plants (for gas transmission operators). The location of these facilities helps determine the impact to the surrounding area and helps PHMSA provide accurate information to first responders.

• Breakout Tanks: PHMSA proposes to require the submission of breakout tank data. As PHMSA regulates these tanks, knowing their locations and attributes is an essential piece of knowledge.

• LNG Plants: PHMSA proposes to collect additional data attributes for liquefied natural gas (LNG) plants. These new attributes include type of plant, capacity, impoundments, exclusion zones and year constructed.

• Pump and Compressor Stations: PHMSA proposes operators submit a geospatial point file containing the locations of pump (for liquid operators) and compressor (for gas transmission operators) stations. Pump and compressor stations are vulnerable areas, and emergency responders need to know their locations for adequate emergency planning. Additionally, the stations are often referenced as inspection boundaries for PHMSA's inspectors.

B. Summary of Impacted Collections

The following information is provided for this information collection: (1) Title of the information collection, (2) OMB control number, (3) Current expiration date, (4) Type of request, (5) Abstract of the information collection activity, (6) Description of affected public, (7) Estimate of total annual reporting and recordkeeping burden, and (8) Frequency of collection. PHMSA requests comments on the following information collection:

OMB Control Number: 2137-0596.

Title: National Pipeline Mapping System Program.

Form Numbers: N/A.

Type of Review: Revision of a Previously Approved Information Collection.

Abstract: Each operator of a pipeline facility (except distribution lines and gathering lines) must provide PHMSA geospatial data for their pipeline system and contact information. The provided information is incorporated into NPMS to support various regulatory programs, pipeline inspections and authorized external customers. Following the initial submission of the requested data, the operator must make a new submission to NPMS if any changes occur so PHMSA can maintain and improve the accuracy of NPMS's information.

Respondents: Operators of natural gas, hazardous liquid, and liquefied natural gas pipelines.

Number of Respondents: 1,211.

Frequency: Annual.

Number of Responses: 1,211.

Total Annual Burden: 420,516 hours.

Public Comments Invited: You are asked to comment on any aspect of this information collection, including: (a) Whether the proposed collection of information is necessary for the Department's performance; (b) the accuracy of the estimated burden; (c) ways for the Department to enhance the quality, utility, and clarity of the information collection; and (d) ways that the burden could be minimized without reducing the quality of the collected information. The agency will summarize and/or include your comments in the request for the Office of Management and Budget's clearance of this information collection.

Authority: The Paperwork Reduction Act of 1995; 44 U.S.C. Chapter 35, as amended; and 49 CFR 1.48.

Issued in Washington, DC, on July 24, 2014, under authority delegated in 49 CFR 1.97.
Alan K. Mayberry,
Deputy Associate Administrator for Policy and Programs.

[FR Doc. 2014-17865 Filed 7-29-14; 8:45 am]

BILLING CODE 4910-60-P